DEPARTMENT OF ENERGY

Federal Energy Regulatory Commission

[Docket Nos. CP00-232-000 and CP00-232-001]

Iroquois Gas Transmission System, L.P.; Notice of Availability of the Final Environmental Impact Statement for the Proposed Eastchester Project

December 14, 2001.

The staff of the Federal Energy Regulatory Commission (FERC or Commission) has prepared a Final Environmental Impact Statement (FEIS) on the natural gas pipeline facilities proposed by Iroquois Gas Transmission System, L.P. (Iroquois) in the above referenced docket.

The FEIS was prepared to satisfy the requirements of the National Environmental Policy Act (NEPA). The staff concludes that approval of the proposed project, with the mitigation measures recommended in the DEIS, would have limited adverse environmental impact.

The FEIS addresses the potential environmental effects of the project proposed by Iroquois to convey natural gas from Northport, Long Island, to the Bronx, New York and evaluates alternatives to the proposed project. The pipeline would be constructed across Long Island Sound and be comprised of the following facilities:

32.8 miles of 24-inch diameter pipe;

Pipeline maintenance facilities constructed in Northport and the Bronx;

Gas meter, regulator, heater, and mainline valve at the terminus in the Bronx;

Two new compressor stations along the existing Iroquois pipeline;

Additions and modifications to three existing compressor stations; and

Work space and access roads to construct, operate, and maintain the above facilities.

The purpose of the proposed facilities would be to provide natural gas for electric generation and to serve residential, industrial, and commercial customers in New York City. The proposed project would serve:

Consolidated Edison Energy, Inc. (Dth/day)—30,000 dekatherms per day

Keyspan Ravenswood, Inc.—60,000 Dth/day

Orion Power Holdings, Inc.—60,000 Dth/day

Miriant New York Management, Inc—60,000 Dth/day

Virginia Power Energy Marketing, Inc.—20,000 Dth/day.

Consultation

The draft environmental impact statement (DEIS) was issued on August 2, 2001 and distributed to the U.S. Fish and Wildlife Service (USFWS) and to the National Marine Fisheries Service (NMFS) as our biological assessment under the Endangered Species Act (ESA). Written concurrence that the project, with the recommendations proposed by staff, would not likely affect listed species or critical habitat are anticipated from both FWS and NMFS.

Pursuant to section 305(b) of the Magnuson-Stevens Fishery Conservation and Management Act, federal agencies are required to consult with the NMFS on any action that may result in adverse effects to essential fish habitat (EFH). Our DEIS, containing an EFH assessment, was provided to NMFS. No Conservation Recommendations have been received from NMFS.

Availability

The FEIS has been placed in the public files of the FERC and is available for public inspection at: Federal Energy Regulatory Commission, Public Reference and Files Maintenance Branch, 888 First Street, NE, Room 2A, Washington, DC 20426, (202) 208-1371.

Copies of the FEIS have been mailed to federal, state and local agencies, public interest groups, individuals who have requested the FEIS, newspapers, and parties to this proceeding. It has also been distributed to the commentors and libraries listed in Appendix A of the FEIS. Those individuals who filed form letters were sent copies of this cover letter and the executive summary.

On October 11, 2001, the Commission issued a policy statement in Docket No. PL02-1, regarding previously public documents. The Commission advised the public that documents that were previously available through the Public Reference Room, the Internet, and RIMS were no longer to be considered public, and that anyone wishing to obtain these documents were to file a request under the Freedom of Information Act (FOIA). Several figures in the FEIS are subject to the new Commission policy including: Figures 2.13.1, 2.13.2, and B-3 through B-12. Accordingly, these figures are not included in the public version of the FEIS. Anyone wishing to obtain these documents should file a request under the Freedom of Information Act (FOIA) and the Commission's regulations at 18 CFR 388.108. Further guidance may be obtained at the FERC Internet website (www.ferc.gov).

In accordance with Council on Environmental Quality (CEQ) regulations implementing NEPA, no agency decision on a proposed action may be made until 30 days after the Environmental Protection Agency publishes a notice of availability of an FEIS. However, the CEQ regulations provide an exception to this rule when an agency decision is subject to a formal internal appeal process that allows agencies or the public to make their views known. In such cases, the agency decision may be made at the same time the notice of the FEIS is published, allowing both periods to run concurrently. The Commission decision for this proposed action is subject to a 30-day rehearing period.

Additional information about the proposed project is available from the Commission's Office of External Affairs, at (202) 208-1088 or on the FERC Internet website (www.ferc.gov) using the “RIMS” link, select “Docket #” from the RIMS Menu, and follow the instructions. For assistance with access to RIMS, the RIMS helpline can be reached at (202) 208-2222.

Similarly, the “CIPS” link on the FERC Internet website provides access to the text of formal documents issued by the Commission, such as orders, notices, and rulemakings. From the FERC Internet website, click on the “CIPS” link, select “Docket #” from the CIPS menu, and follow the instructions. For assistance with access to CIPS, the CIPS helpline can be reached at (202) 208-2474.

Linwood A. Watson Jr.,
Acting Secretary.

[FR Doc. 01-31309 Filed 12-19-01; 8:45 am]

BILLING CODE 6717-01-P